DEPARTMENT OF ENERGY

Federal Energy Regulatory Commission

[Docket No. RP01-225-003]

Gulf South Pipeline Company, LP; Notice of Compliance Filing

May 17, 2001.

Take notice that on May 14, 2001, Gulf South Pipeline Company, LP (Gulf South) tendered for filing as part of its FERC Gas Tariff, Sixth Revised Volume No. 1, the following tariff sheets, to become effective March 1, 2001:

Substitute First Revised Sheet No. 100

Substitute First Revised Sheet No. 300

Substitute First Revised Sheet No. 400

Substitute First Revised Sheet No. 500

Substitute First Revised Sheet No. 603

Second Sub Original Sheet No. 1416

Second Sub Original Sheet No. 2902

Second Sub Original Sheet No. 2903

In its Order on Compliance filing and Rehearing, issued April 27, 2001, in Docket No. RP01-225, the Commission required Gulf South to refile certain aspects of its open tap and open season tariff provisions, consistent with its directives. This compliance filing incorporates the required changes to the appropriate tariff sheets.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions maybe filed electronically via the internet in lieu of paper. See, 18 CFR 385.2001(a)(1)(iii) and the instructions on the Commission's web site at http://www.ferc.fed.us/efi/doorbell.htm.

David P. Boergers,
Secretary.

[FR Doc. 01-12959 Filed 5-22-01; 8:45 am]

BILLING CODE 6717-01-M